DEPARTMENT OF COMMERCE

International Trade Administration

[A-549-821]

Polyethylene Retail Carrier Bags From Thailand: Preliminary Results and Partial Rescission of the Antidumping Duty Administrative Review and Preliminary Determination of No Shipments; 2015-2016

AGENCY: Enforcement and Compliance, International Trade Administration, Department of Commerce.

SUMMARY: The Department of Commerce (Department) is conducting an administrative review of the antidumping duty (AD) order on polyethylene retail carrier bags (PRCBs) from Thailand covering the period of review (POR) from August 1, 2015, through July 31, 2016. We preliminary determine that Super Grip Co., Ltd. (Super Grip) had no shipments during the POR. Further, we are rescinding this administrative review with respect to the mandatory respondent Sahachit Watana Plastic Ind. Co., Ltd. (Sahachit). Finally, we preliminarily find that the mandatory respondent, Landblue (Thailand) Co., Ltd. (Landblue), failed to respond to the Department's questionnaire in this review and, as a result, Landblue received a preliminary margin based on adverse facts available. Interested parties are invited to comment on these preliminary results.

DATES: Effective June 8, 2017.

FOR FURTHER INFORMATION CONTACT: Shanah Lee, AD/CVD Operations, Office III, Enforcement and Compliance, International Trade Administration, U.S. Department of Commerce, 1401 Constitution Avenue NW., Washington, DC 20230; telephone: (202) 482-6386.

SUPPLEMENTARY INFORMATION:

Background

These preliminary results are made in accordance with section 751(a) of the Tariff Act of 1930, as amended (the Act). On August 31, 2016, in response to a timely request from Polyethylene Retail Carrier Bag Committee and its individual members, Hilex Poly Co., LLC and Superbag Corporation (collectively, the petitioners),¹ and in accordance with section 751(a) of the Act and 19 CFR 351.221(c)(1)(i), we initiated an administrative review of the antidumping duty order on PRCBs from Thailand.² On November 15, 2016, the Department selected Landblue and Sahachit as mandatory respondents for individual examination in this review.³ Also on November 15, 2016, we issued the AD questionnaire to Landblue and Sahachit.⁴ In December 2016 and January 2017, Sahachit responded to the Department's initial questionnaire.⁵ On January 12, 2017, the petitioners withdrew their request for an administrative review of Sahachit.⁶ On May 2, 2017, in accordance with section 751(a)(3)(A) of the Act, the Department extended the deadline for this review by 30 days.⁷ For a complete description of the events that followed the initiation of this review, see the Preliminary Decision Memorandum.⁸ A list of topics included in the Preliminary Decision Memorandum is provided as an appendix to this notice. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be accessed directly at http://enforcement.trade.gov/frn/. The signed and the electronic versions of the Preliminary Decision Memorandum are identical in content.

¹ See letter from Petitioners, “Polyethylene Retail Carrier Bags from Thailand: Request for Administrative Review,” dated August 31, 2016 (Review Request).

² See Initiation of Antidumping and Countervailing Duty Administrative Reviews, 81 FR 71061, dated October 14, 2016 (Initiation Notice).

³ See memorandum to the file, “2015-2016 Administrative Review of the Antidumping Duty Order on Polyethylene Retail Carrier Bags from Thailand: Respondent Selection,” dated November 15, 2016 (Respondent Selection Memorandum).

⁴ See letter from the Department to Landblue and Sahachit, dated November 15, 2016.

⁵ See letter from Sahachit to the Department, “Re: Responde {sic} to questionaire {sic},” dated December 14, 2016; see also letters from Sahachit, “Re: Section B Questionaire {sic} Response,”; “Re: Section C Questionaire {sic} Response,”; “Re: Section D Questionaire {sic} Response,” dated January 15, 2017.

⁶ See letter from the petitioners, “Polyethylene Retail Carrier Bags from Thailand: Partial Withdrawal of Request for Administrative Review,” dated January 12, 2017.

⁷ See Memorandum, “Extension of Deadline for Preliminary Results of the 2015-2016 Antidumping Duty Administrative Review,” dated May 2, 2017.

⁸ See Memorandum, “Decision Memorandum for Preliminary Results of the 2015-2016 Antidumping Duty Administrative Review: Polyethylene Retail Carrier Bags from Thailand” (Preliminary Decision Memorandum).

Scope of the Order ⁹

⁹ See Preliminary Decision Memorandum for a complete description of the scope of the Order, which is hereby adopted by this notice and incorporated herein by reference.

The merchandise subject to this order is PRCBs, which may be referred to as t-shirt sacks, merchandise bags, grocery bags, or checkout bags. The product is currently classified under the Harmonized Tariff Schedule of the United States (HTSUS) subheading 3923.21.0085. Although the HTSUS subheading is provided for convenience and customs purposes, the written description of the scope of the order is dispositive.

Partial Rescission of Administrative Review

On August 31, 2016, the Department received a timely request for an administrative review of the AD order on PRCBs from Thailand for 29 companies.¹⁰ In response to a timely-filed withdrawal request by the petitioners,¹¹ we are rescinding this administrative review with respect to Sahachit, pursuant to 19 CFR 351.213(d)(1).¹² Accordingly, the companies subject to the instant review are the 28 companies listed in the “Preliminary Results of Review” section, below, of which Landblue is the remaining mandatory respondent.¹³

¹⁰ See Review Request.

¹¹ See letter from Petitioners, “Polyethylene Retail Carrier Bags from Thailand: Partial Withdrawal of Request for Administrative Review,” dated January 12, 2017 (“Petitioners' Withdrawal Request”).

¹² See Preliminary Decision Memorandum, at “Partial Rescission of Administrative Review” section.

¹³ See Respondent Selection Memorandum.

Preliminary Determination of No Shipments

We received a timely-filed submission from Super Grip Co., Ltd. (Super Grip) reporting to the Department that it made no exports, sales, or entries of subject merchandise to the United States during the POR.¹⁴ Based on record evidence, we preliminarily determine that Super Grip had no reviewable entries during the POR. For additional information on our preliminary determination of no reviewable entries, see the Preliminary Decision Memorandum.

¹⁴ See letter from Super Grip, “Polyethylene Retail Carrier Bags from Thailand: Notice of No Shipments (08/01/15-07/31/16),” dated October 28, 2016.

Methodology

The Department is conducting this review in accordance with section 751(a)(2) of the Act.

Facts Available

The Department determined that Landblue withheld necessary information that was requested by the Department, thereby significantly impeding the conduct of the review, and failed to act to the best of its ability. Accordingly, in accordance with sections 776(a) and (b) of the Act, the Department applied facts available with an adverse inference to Landblue. For a full description of the methodology underlying our preliminary results, see the Preliminary Decision Memorandum.

Rate for Non-Selected Companies Under Review

In accordance with the U.S. Court of Appeals for the Federal Circuit's decision in Albermarle Corp. v. United States,¹⁵ we are applying to the non-selected companies the rate preliminarily applied to Landblue. For a detailed discussion, see Preliminary Decision Memorandum.

¹⁵ See Albermarle Corp. & Subsidiaries v. United States, 821 F.3d 1345 (Fed. Cir. 2016) (“Albermarle Corp.”).

Preliminary Results of the Review

As a result of this review, we preliminarily determine the following weighted-average dumping margins for the POR:

Exporter/producer | Weighted- average dumping margins (percent)
Landblue (Thailand) Co., Ltd | 122.88
Apple Film Company, Ltd | 122.88
Dpac Inter Corporation Co., Ltd | 122.88
Elite Poly and Packaging Co., Ltd | 122.88
Film Master Co., Ltd | 122.88
Inno Cargo Co., Ltd | 122.88
Innopack Industry Co., Ltd | 122.88
K. International Packaging Co., Ltd | 122.88
King Bag Co., Ltd | 122.88
King Pac Industrial Co., Ltd | 122.88
M & P World Polymer Co., Ltd | 122.88
Minigrip (Thailand) Co., Ltd | 122.88
Multibax Public Co., Ltd | 122.88
Naraipak Co., Ltd | 122.88
PMC Innopack Co., Ltd | 122.88
Poly Plast (Thailand) Co., Ltd | 122.88
Poly World Co., Ltd | 122.88
Prepack Thailand Co., Ltd | 122.88
Print Master Co., Ltd | 122.88
Siam Best Products Trading Limited Partnership | 122.88
Sun Pack Inter Co., Ltd | 122.88
Superpac Corporation Co., Ltd | 122.88
Thai Origin Co., Ltd | 122.88
Thantawan Industry Public Co., Ltd | 122.88
Triple B Pack Co., Ltd | 122.88
Two Path Plaspack Co. Ltd | 122.88
Wing Fung Adhesive Manufacturing (Thailand) Co., Ltd | 122.88

Disclosure and Public Comment

Normally, the Department discloses to interested parties the calculations performed in connection with a preliminary results of review within five days of the date of publication of the notice of the preliminary results in the Federal Register, in accordance with 19 CFR 351.224(b). However, because the Department preliminarily applied a dumping margin based on AFA, as described in the Preliminary Decision Memorandum, there is nothing further to disclose. Interested parties may submit case briefs no later than 30 days after the date of publication of this notice.¹⁶ Rebuttal briefs, limited to issues raised in the case briefs, may be filed not later than five days after the date for filing case briefs.¹⁷ Parties who submit case briefs or rebuttal briefs in this proceeding are encouraged to submit with each argument: (1) A statement of the issue; (2) a brief summary of the argument; and (3) a table of authorities.¹⁸

¹⁶ See 19 CFR 351.309(c)(ii).

¹⁷ See 19 CFR 351.309(d).

¹⁸ See 19 CFR 351.309(c)(2) and (d)(2).

Pursuant to 19 CFR 351.310(c), interested parties who wish to request a hearing must submit a written request to the Assistant Secretary for Enforcement and Compliance, filed electronically via ACCESS. An electronically filed document must be received successfully in its entirety by the Department's electronic records system, ACCESS, by 5:00 p.m. Eastern Time within 30 days after the date of publication of this notice.¹⁹ The request should contain: (1) The party's name, address, and telephone number; (2) the number of participants; and (3) a list of issues to be discussed. Issues raised in the hearing will be limited to those in the respective case briefs. If a request for a hearing is made, parties will be notified of the date and time of the hearing to be held at the U.S. Department of Commerce, 1401 Constitution Avenue NW., Washington, DC 20230.

¹⁹ See 19 CFR 351.310(c).

Unless the deadline is extended pursuant to section 751(a)(3)(A) of the Act and 19 CFR 351.213(h)(2), the Department intends to issue the final results of this administrative review, including the results of its analysis of the issues raised in all written case briefs, within 120 days after the issuance of these preliminary results.

Assessment Rates

Upon the completion of the administrative review, the Department shall determine, and CBP shall assess, antidumping duties on all appropriate entries. If the preliminary results are unchanged for the final results, we will instruct CBP to apply an ad valorem assessment rate of 122.88 percent to all entries of subject merchandise during the POR which were produced and/or exported by Landblue, and an ad valorem assessment rate of 122.88 percent to all entries of subject merchandise during the POR which were produced and/or exported by the aforementioned companies which were not selected for individual examination.²⁰ With respect to Super Grip, if we continue to find that Super Grip had no shipments of subject merchandise in the final results, we will instruct CBP to liquidate any existing entries of merchandise produced by Super Grip, but exported by other parties, at the rate for the intermediate reseller, if available, or at the all-others rate.²¹

²⁰ See Preliminary Decision Memorandum at “Rate for Non-Selected Companies” (for an explanation of how we preliminarily determined the rate for non-selected companies).

²¹ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

We intend to issue instructions to CBP 15 days after publication of this notice.

Cash Deposit Requirements

The following deposit requirements will be effective upon publication of the notice of final results of administrative review for all shipments of PRCBs from Thailand entered, or withdrawn from warehouse, for consumption on or after the date of publication provided by section 751(a)(2) of the Act: (1) The cash deposit rate for the respondents listed above will be equal to the dumping margins established in the final results of this review except if the ultimate rates are de minimis within the meaning of 19 CFR 351.106(c)(1), in which case the cash deposit rates will be zero; (2) for merchandise exported by manufacturers or exporters not covered in this review but covered in a prior segment of the proceeding, the cash deposit rate will continue to be the company-specific rate published for the most recently completed segment of this proceeding in which the manufacturer or exporter participated; (3) if the exporter is not a firm covered in this review, a prior review, or the original less-than-fair-value investigation but the manufacturer is, the cash deposit rate will be the rate established for the most recently completed segment of the proceeding for the manufacturer of the merchandise; (4) the cash deposit rate for all other manufacturers or exporters will continue to be 4.69 percent ad valorem.²² These deposit requirements, when imposed, shall remain in effect until further notice.

²² See Notice of Implementation of Determination Under Section 129 of the Uruguay Round Agreements Act and Partial Revocation of the Antidumping Duty Order on Polyethylene Retail Carrier Bags From Thailand, 75 FR 48940 (August 12, 2010).

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

We are issuing and publishing these results in accordance with sections 751(a)(1) and 777(i)(1) of the Act and 19 CFR 351.213(d) and (h)(1).

Dated: June 2, 2017.
Ronald K. Lorentzen,
Acting Assistant Secretary for Antidumping and Countervailing Duty Operations.

Appendix I

List of Topics Discussed in the Preliminary Decision Memorandum

I. Summary

II. Background

III. Scope of the Order

IV. Partial Rescission of Administrative Review

V. Preliminary Determination of No Shipments

VI. Discussion of the Methodology

A. Use of Facts Otherwise Available

i. Use of Facts Available

ii. Application of Facts Available With an Adverse Inference

iii. Selection of Corroboration of Information Used as Facts Available

VII. Recommendation

[FR Doc. 2017-11914 Filed 6-7-17; 8:45 am]

BILLING CODE 3510-DS-P